DEPARTMENT OF THE INTERIOR

Fish and Wildlife Service

Notice of Availability of an Environmental Assessment and Receipt of an Application for an Incidental Take Permit for the East Valley Centre, City of Highland, San Bernardino County, CA

AGENCY: Fish and Wildlife Service, Interior.

ACTION: Notice of availability and receipt of application.

SUMMARY: National Equity Engineering (Applicant) has applied to the Fish and Wildlife Service (Service) for an incidental take permit pursuant to section 10(a)(1)(B) of the Endangered Species Act (Act) of 1973, as amended. The Service is considering issuing a 3-year permit to the Applicant that would authorize take of the federally endangered San Bernardino kangaroo rat (Dipodomys merriami parvus; “SBKR”). The proposed permit would authorize the take of individual members of SBKR. The permit is needed by the Applicant because take of SBKR could occur during the proposed construction of a commercial development on a 15.6-acre site in the City of Highland, San Bernardino County, California.

The permit application includes the proposed Habitat Conservation Plan (Plan), which describes the proposed action and the measures that the Applicant will undertake to minimize and mitigate take of the SBKR.

DATES: Written comments on or before May 8, 2006.

ADDRESSES: Send written comments to Mr. Jim Bartel, Field Supervisor, Fish and Wildlife Service, 6010 Hidden Valley Road, Carlsbad, California 92011. You also may send comments by facsimile to (760) 918-0638.

FOR FURTHER INFORMATION CONTACT: Ms. Karen Goebel, Assistant Field Supervisor [See ADDRESSES] or call (760) 431-9440.

SUPPLEMENTARY INFORMATION:

Availability of Documents

You may obtain copies of these documents for review by contacting the above office. Documents also will be available for public inspection, by appointment, during normal business hours at the above address and at the San Bernardino County Libraries. Addresses for the San Bernardino County Libraries are: (1) 27167 Base Line, Highland, CA 92346; (2) 25581 Barton Road, Loma Linda, CA 92354; (3) 251 West 1st Street, Rialto, CA 92376; and, (4) 104 West Fourth Street, San Bernardino, CA 92415.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicant is proposing development of commercial facilities on 15.6 acres of land in the City of Highland, San Bernardino County, California. The project site is bordered on the west by the northbound off-ramp of the I-210 Freeway for Fifth Street and on the north by Fifth Street. A vacant lot and public storage facility border the project site to the east, and a berm separates the project site from the Plunge Creek flood control basins, aggregate operations and the Santa Ana Wash to the south. The site is currently disked on an annual basis for weed control.

Approximately one acre of SBKR habitat on site is considered occupied as live-in habitat along the southern and eastern periphery and a dirt road in the middle of the project site. The Service has determined that the proposed development would result in incidental take of the SBKR. No other federally listed species are known to utilize the site.

To mitigate take of SBKR on the project site, the Applicant proposes to purchase credits towards conservation in-perpetuity of three acres of Riversidean alluvial fan sage scrub from the Cajon Creek Conservation Bank in eastern San Bernardino Valley. The conservation bank collects fees that fund a management endowment to ensure the permanent management and monitoring of sensitive species and habitats, including the SBKR.

The Service's Environmental Assessment considers the environmental consequences of four alternatives, including: (1) The Proposed Project Alternative, which consists of issuance of the incidental take permit and implementation of the Plan; (2) the Alternative Site Layout, which would avoid direct effects resulting in take of SBKR during project construction and provide no offsite conservation; and (3) the No Action Alternative, which would result in no impacts to SBKR and no conservation.

National Environmental Policy Act

Proposed permit issuance triggers the need for compliance with the National Environmental Policy Act (NEPA). Accordingly, a draft NEPA document has been prepared. The Service is the Lead Agency responsible for compliance under NEPA. As NEPA lead agency, the Service is providing notice of the availability and is making available for public review the Environmental Assessment.

Public Review

The Service invites the public to review the Plan and Environmental Assessment during a 60-day public comment period [see DATES]. Any comments received, including names and addresses, will become part of the official administrative record and may be made available to the public.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the SBKR. We will make our final permit decision no sooner than 60 days from the date of this notice.

Dated: March 3, 2006.
Ken McDermond,
Deputy Manager, California/Nevada Operations Office, Sacramento, California.

[FR Doc. E6-3351 Filed 3-8-06; 8:45 am]

BILLING CODE 4310-55-P